DEPARTMENT OF HEALTH AND HUMAN SERVICES

Secretary's Advisory Committee on Blood Safety and Availability

AGENCY: Office of the Secretary, Office of Public Health and Science.

ACTION: Solicitation of nomination for four vacancies on the Secretary's Advisory Committee on Blood Safety and Availability.

Authority: 42 U.S.C. 217a, Section 222 of the Public Health Service (PHS) Act, as amended. The Committee is governed by the provisions of Pub. L. 92-463, as amended (5 U.S.C. Appendix 2), which sets forth standards for the formation and use of advisory committees.

SUMMARY: The Advisory Committee on Blood Safety and Availability (ASBSA) provides advice to the Secretary and to the Assistant Secretary for Health on a range of issues that include: (1) Definition of public health parameters around safety and availability of the blood supply, (2) broad public health, ethical, and legal issues related to blood safety, and (3) the implications for blood safety and availability of various economic factors affecting product cost and supply. The current charter for the ACBSA expires October 9, 2004.

DATES: Nominations for membership on the Committee must be received no later than 5 p.m. e.s.t. on June 4, 2004, at the address below.

All Nominations Should Be Mailed or Delivered To: Dr. Jerry Holmberg, Executive Director, Advisory Committee on Blood Safety and Availability, 1101 Wootten Parkway, Suite 250, Rockville, MD 20852. Nominations will not be accepted by e-mail or facsimile.

FOR FURTHER INFORMATION CONTACT: CAPT Lawrence McMurtry, Deputy Secretary, Advisory Committee on Blood Safety and Availability, Department of Health and Human Services, Office of Public Health and Science, 1101 Wootten Parkway, Suite 250, Rockville, MD 20852. Telephone (301) 443-2823.

A copy of the Committee charter and list of the current membership can be obtained by contacting CAPT McMurtry or by accessing the ACBSA Web site at http://www.dhhs.gov/bloodsafety.

SUPPLEMENTARY INFORMATION:

Nominations

The ACBSA is requesting nominations to fill four positions that are scheduled to become vacant on October 1, 2004. Nominations of potential candidates for considerations are being sought from advocacy groups, provider blood organizations, academic researchers, ethicists, private physicians, scientists, consumer advocates, legal organizations, and from among communities of persons who are frequent recipients of blood or blood products including therapeutic protein products and their recombinant analogs. To qualify for consideration of appointment to the Committee, an individual must demonstrate experience and expertise in any of the several disciplines and field pertinent to blood and plasma therapeutics and/or clinical research.

Individuals selected for appointment to the Committee will serve as voting members. Individuals selected for appointment to the Committee will be invited to serve a term of up to three years. Compensation for Committee members includes a stipend and reimbursement for per diem and travel expenses incurred for attendance at Committee meetings, as well as to conduct other business matters in the interest of the ACBSA.

Nominations should be typewritten. The following information should be included in the package of material submitted for each individual being nominated for consideration: (1) A letter of nomination that clearly states the name and organizational affiliation of the nominee, the basis for the nomination (i.e., specific attributes which qualify the nominee for appointment to the Committee), and a statement that the nominee is willing to serve as a member of the Committee; (2) the nominator's name, address, and daytime telephone number, and the home and/or work address, telephone number, and email address of the individual being nominated; and (3) a current copy of the nominee's curriculum vitae. Federal employees should not be nominated for consideration of appointment to this Committee.

The Department of Health and Human Services (DHHS) makes every effort to ensure that the membership of its Federal advisory committees is fairly balanced in terms of points of view represented and the committee's function. Every effort is made to ensure that a broad representation of geographic areas, females, ethnic and minority groups, and the disabled are given consideration for membership on DHHS Federal advisory committees. Appointment to this Committee shall be made without discrimination on the basis of age, race, ethnicity, gender, sexual orientation, disability, and cultural, religious, or socioeconomic status. Nominations must state that the nominee is willing to serve as a member of ACBSA and appears to have no conflict of interest that would preclude membership. If selected for appointment to the Committee, candidates will be asked to provide detailed information concerning such matters as financial holdings, consultancies, and research grants or contracts. Disclosure of this information is necessary in order to determine if the selected candidates are involved in activity that may conflict with the matters discussed by ACBSA.

Dated: April 22, 2004.
Lawrence C. McMurtry,
Deputy Executive Secretary, Advisory Committee on Blood Safety and Availability, Office of the Secretary, Office of Public Health and Science, Department of Health and Human Services.

[FR Doc. 04-10969 Filed 5-13-04; 8:45 am]

BILLING CODE 4150-28-P